DEPARTMENT OF ENERGY

Federal Energy Regulatory Commission

Combined Notice of Filings #2

Take notice that the Commission received the following electric rate filings:

Docket Numbers: ER19-716-001.

Applicants: PacifiCorp.

Description: Tariff Amendment: ESM Construction Agreement—Milford (update) to be effective 12/20/2018.

Filed Date: 2/25/19.

Accession Number: 20190225-5090.

Comments Due: 5 p.m. ET 3/18/19.

Docket Numbers: ER19-749-001.

Applicants: PacifiCorp.

Description: Tariff Amendment: ESM Construction Agreement—Sigurd (update) to be effective 12/20/2018.

Filed Date: 2/25/19.

Accession Number: 20190225-5088.

Comments Due: 5 p.m. ET 3/18/19.

Docket Numbers: ER19-1115-000.

Applicants: AEP Texas Inc.

Description: § 205(d) Rate Filing: AEPTX-Maverick County WC&ID No.1 Interconnection Agreement 1st Amd & Restated to be effective 2/1/2019.

Filed Date: 2/25/19.

Accession Number: 20190225-5065.

Comments Due: 5 p.m. ET 3/18/19.

Docket Numbers: ER19-1116-000.

Applicants: PJM Interconnection, L.L.C.

Description: § 205(d) Rate Filing: Original WMPA, SA No. 5284; Queue No. AD2-027 to be effective 1/26/2019.

Filed Date: 2/25/19.

Accession Number: 20190225-5071.

Comments Due: 5 p.m. ET 3/18/19.

Docket Numbers: ER19-1117-000.

Applicants: Mirabito Power & Gas, LLC.

Description: Baseline eTariff Filing: MPG_MBR initial_tariff to be effective 3/1/2019.

Filed Date: 2/25/19.

Accession Number: 20190225-5073.

Comments Due: 5 p.m. ET 3/18/19.

Docket Numbers: ER19-1118-000.

Applicants: Midcontinent Independent System Operator, Inc.

Description: § 205(d) Rate Filing: 2019-02-25_SA 3246 Certificate of Concurrence Entergy-Southern TIA to be effective 1/1/2019.

Filed Date: 2/25/19.

Accession Number: 20190225-5085.

Comments Due: 5 p.m. ET 3/18/19.

Docket Numbers: ER19-1119-000.

Applicants: Wheelabrator Ridge Energy Inc.

Description: Tariff Cancellation: Notice of Cancellation to be effective 2/26/2019.

Filed Date: 2/25/19.

Accession Number: 20190225-5091.

Comments Due: 5 p.m. ET 3/18/19.

Docket Numbers: ER19-1120-000.

Applicants: PJM Interconnection, L.L.C.

Description: § 205(d) Rate Filing: Second Revised ISA No. 3064, Queue No. W4-009/X4-005/AD1-113 to be effective 1/26/2019.

Filed Date: 2/25/19.

Accession Number: 20190225-5102.

Comments Due: 5 p.m. ET 3/18/19.

Docket Numbers: ER19-1121-000.

Applicants: Wabash Valley Power Association, Inc., Midcontinent Independent System Operator, Inc.

Description: § 205(d) Rate Filing: 2019-02-25_Rate Schedule 52_AMMO-ATXI-WVPA JPZ Revenue Allocation Agreement to be effective 6/1/2019.

Filed Date: 2/25/19.

Accession Number: 20190225-5104.

Comments Due: 5 p.m. ET 3/18/19.

Docket Numbers: ER19-1122-000.

Applicants: Midcontinent Independent System Operator, Inc., Wabash Valley Power Association, Inc.

Description: § 205(d) Rate Filing: 2019-02-25_Revisions to Schs 7, 8, and 9 to add ATXI and WVPA to Zone 3B to be effective 6/1/2019.

Filed Date: 2/25/19.

Accession Number: 20190225-5105.

Comments Due: 5 p.m. ET 3/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2019.
Nathaniel J. Davis, Sr.,
Deputy Secretary.

[FR Doc. 2019-03738 Filed 3-1-19; 8:45 am]

BILLING CODE 6717-01-P